DEPARTMENT OF JUSTICE

Notice of Lodging of Proposed Second Material Modification to Consent Decree Under Title VI of the Clean Air Act

On September 4, 2025, the Department of Justice lodged a proposed second material modification to the Consent Decree in the matter entitled United States v. Trident Seafoods Corp., et. al, Civil Action 2:19-cv-231, with the United States District Court for the Western District of Washington.

The Consent Decree resolved alleged violations stemming from Trident's use of ozone-depleting refrigerants on board fishing vessels and at seafood processing facilities in Alaska and in the Pacific Northwest by, among other things, requiring Trident to retrofit or retire a number of its larger refrigeration appliances that are more prone to significant leaks, in accordance with a ten-year schedule. The proposed material modification extends one deadline in the schedule by four years and requires that Trident retrofit or retire one large refrigeration appliance early and agree to additional compliance requirements, including additional inspections and comprehensive leak testing on the vessel whose deadlines are being extended.

The publication of this notice opens a period for public comment on the proposed modification to the Consent Decree. Comments should be addressed to the Assistant Attorney General, Environment and Natural Resources Division, and should refer to United States v. Trident Seafoods Corp. et al., D.J. Ref. No. 90-5-2-1-11183. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter. During the public comment period, the proposed modification to the Consent Decree may be examined and downloaded at this Justice Department website: https://www.justice.gov/enrd/consent-decrees. If you require assistance accessing the proposed modification, you may request assistance by email or by mail to the addresses provided above for submitting comments.

Scott D. Bauer,
Assistant Section Chief, Environmental Enforcement Section, Environment and Natural Resources Division.

[FR Doc. 2025-17378 Filed 9-9-25; 8:45 am]

BILLING CODE 4410-15-P